POSTAL RATE COMMISSION

39 CFR Part 3000

[Docket No. RM2001-1; Order No. 1313]

Revision to Standards of Conduct

AGENCY: Postal Rate Commission.

ACTION: Final rule.

SUMMARY: The Commission is updating its standards of conduct to reflect government-wide ethics rules. This entails eliminating existing, redundant procedures for reviewing employees' security holdings for conflicts of interests. This change will help avoid confusion in administration of the Commission's ethics program.

DATES: Effective June 15, 2001.

ADDRESSES: Send comments to Steven W. Williams, Acting Secretary, Postal Rate Commission, 1333 H Street NW., Suite 300, Washington, DC 20268-0001.

FOR FURTHER INFORMATION CONTACT: Stephen L. Sharfman, 202-789-6820.

SUPPLEMENTARY INFORMATION:

A. Regulatory History

66 FR 11242-43 (Order No. 1303); Order No. 1313 (May 15, 2001).

B. Background

On February 7, 2001, the Commission issued a notice of proposed rulemaking proposing to delete rule 103(b) (39 CFR 3000.735.103(b)) from the Commission's standards of conduct. See order no. 1303 published in the Federal Register on Friday, February 23, 2001 (66 FR 11242-43).

Rule 103(b) was a de minimis rule. It provided that security interests held by a Commission employee that were valued below a certain amount would receive a different level of scrutiny for conflicts of interest than security interests valued above the specified amount. The notice observed that this provision had been superceded by, and become duplicative of, government-wide ethical standards and screening procedures. To conform the Commission's standards of conduct with government-wide ethics rules and financial disclosure procedures, the Commission proposed that rule 103(b) be deleted.

The notice provided a 30-day period from the date of its publication in the Federal Register for public comment. No comments were received. Accordingly, the proposal is adopted as proposed.

Rule 103(b) (39 CFR 3000.735.103(b)) is hereby deleted from the Commission's Standards of Conduct. Rule 103(a) will be redesignated rule 103.

C. Ordering Paragraghs

It is ordered:

Paragraph (b) shall be deleted from rule 103 of the Commission's standards of conduct, effective upon publication of this order in the Federal Register.

Rule 103(a) of the Commission's standards of conduct shall be redesignated rule 103.

The acting secretary is directed to cause this final rule to appear in the Federal Register.

Steven W. Williams,
Acting Secretary.

List of Subjects in 39 CFR Part 3000

Admininstrative practice and procedure, Postal Service

For the reasons stated in the preamble, the Postal Rate Commission amends 39 CFR part 3000 as follows:

PART 3000—STANDARDS OF CONDUCT

The authority citation for part 3000 continues to read as follows:

Authority: 39 U.S.C. 3603; E.O. 12674, 54 FR 15159, 3 CFR, 1989 Comp., p. 215, as modified by E.O. 12731, 56 FR 42547, 3 CFR, 1990 Comp., p. 306; 5 CFR parts 2634 and 2636.

Revise § 3000.735-103 to read as follows:

§ 3000.735-103 Financial interests.

An employee shall not, either directly or indirectly, have any financial interest (whether by ownership of any stock, bond, security, or otherwise) in any entity or person whose interests may be significantly affected by rates of postage, fees for postage services, the classification of mail, or the operation of the Postal Service. This paragraph does not proscribe interests in an entity or person whose use of the mail is merely an incidental or a minor factor in the general conduct of its business.

[FR Doc. 01-14931 Filed 6-14-01; 8:45 am]

BILLING CODE 7710-FW-P